DEPARTMENT OF HEALTH AND HUMAN SERVICES

Centers for Disease Control and Prevention

[Request for Application (RFA) 05055]

Strengthening Existing National Organizations Serving Racial and Ethnic Populations Capacity Development Programs: Strategies To Advance Program Implementation, Coordination, Management, and Evaluation Efforts; Notice of Availability of Funds—Amendment

A notice announcing the availability of Fiscal Year (FY) 2005 funds to support and strengthen existing National and Regional Minority Organizations (NMOs/RMOs) that engage in health advocacy, promotion, education and preventive healthcare with the intent of improving the health and well-being of racial and ethnic minority populations; published in the Federal Register, on July 26, 2005, Volume 70, Number 142, pages 43152.

The notice is amended as follows: On page 43157, second column, please replace the entire paragraph:

A special emphasis panel will evaluate complete and responsive applications according to the criteria listed in the “V.1. Criteria” section above. Applications competing for Federal funds receive an objective and independent review performed by a committee of experts qualified by training and experience in particular fields or disciplines related to the program being reviewed. In selecting review committee members for the special emphasis panel, other factors in addition to training and experience may be considered to improve the balance of a panel. Each reviewer is screened to avoid conflicts of interest and is responsible for providing an objective, unbiased evaluation based on the review criteria noted above. The panel provides expert advice on the merits of each application to program officials responsible for final selections for awards. Before final award decisions are made, CDC may make pre-decisional site visits to those applicants who rank high on the initial scoring to review the agency's program, business management, and fiscal capabilities. CDC may also check with the health department, the organization's board of directors, and community partners to obtain additional information about the organizational structure and the availability of needed services and support. Replace with:

An objective review panel will evaluate complete and responsive applications according to the criteria listed in the “V.1. Criteria” section above. The application review will be performed by CDC employees within the agency's Centers, Institute and Offices but outside the funding office.

Dated: August 4, 2005.
William P. Nichols,
Director, Procurement and Grants Office, Centers for Disease Control and Prevention.

[FR Doc. 05-15796 Filed 8-9-05; 8:45 am]

BILLING CODE 4163-18-P